DEPARTMENT OF HEALTH AND HUMAN SERVICES

Food and Drug Administration

[Docket Nos. FDA-2010-P-0577 and FDA-2010-P-0579]

Determination That NUVIGIL (Armodafinil) Tablets, 100 Milligrams and 200 Milligrams, Were Not Withdrawn From Sale for Reasons of Safety or Effectiveness

AGENCY: Food and Drug Administration, HHS.

ACTION: Notice.

SUMMARY: The Food and Drug Administration (FDA) has determined that NUVIGIL (armodafinil) Tablets, 100 milligrams (mg) and 200 mg, were not withdrawn from sale for reasons of safety or effectiveness. This determination will allow FDA to approve abbreviated new drug applications (ANDAs) for armodafinil tablets, 100 mg and 200 mg, if all other legal and regulatory requirements are met.

FOR FURTHER INFORMATION CONTACT: Molly Flannery, Center for Drug Evaluation and Research, Food and Drug Administration, 10903 New Hampshire Ave., Bldg. 51, rm. 6237, Silver Spring, MD 20993-0002, 301-796-3543.

SUPPLEMENTARY INFORMATION: In 1984, Congress enacted the Drug Price Competition and Patent Term Restoration Act of 1984 (Pub. L. 98-417) (the 1984 amendments), which authorized the approval of duplicate versions of drug products under an ANDA procedure. ANDA applicants must, with certain exceptions, show that the drug for which they are seeking approval contains the same active ingredient in the same strength and dosage form as the “listed drug,” which is a version of the drug that was previously approved. ANDA applicants do not have to repeat the extensive clinical testing otherwise necessary to gain approval of a new drug application (NDA). The only clinical data required in an ANDA are data to show that the drug that is the subject of the ANDA is bioequivalent to the listed drug.

The 1984 amendments include what is now section 505(j)(7) of the Federal Food, Drug, and Cosmetic Act (21 U.S.C. 355(j)(7)), which requires FDA to publish a list of all approved drugs. FDA publishes this list as part of the “Approved Drug Products With Therapeutic Equivalence Evaluations,” which is known generally as the “Orange Book.” Under FDA regulations, drugs are removed from the list if the Agency withdraws or suspends approval of the drug's NDA or ANDA for reasons of safety or effectiveness or if FDA determines that the listed drug was withdrawn from sale for reasons of safety or effectiveness (21 CFR 314.162).

A person may petition the Agency to determine, or the Agency may determine on its own initiative, whether a listed drug was withdrawn from sale for reasons of safety or effectiveness. This determination may be made at any time after the drug has been withdrawn from sale, but must be made prior to approving an ANDA that refers to the listed drug (314.161 (21 CFR 314.161)). FDA may not approve an ANDA that does not refer to a listed drug.

NUVIGIL (armodafinil) Tablets, 100 mg and 200 mg, are the subject of NDA 21-875, held by Cephalon, Inc., and initially approved on June 15, 2007. NUVIGIL is indicated to improve wakefulness in patients with excessive sleepiness associated with obstructive sleep apnea, narcolepsy, and shift work disorder.

NUVIGIL (armodafinil) Tablets, 100 mg and 200 mg, are currently listed in the “Discontinued Drug Product List” section of the Orange Book.

Actavis, Inc., submitted a citizen petition dated November 9, 2010 (Docket No. FDA-2010-P-0579), under 21 CFR 10.30, requesting that the Agency determine that NUVIGIL (armodafinil) Tablets, 100 mg and 200 mg, were not voluntarily withdrawn for safety or efficacy reasons. Watson Laboratories, Inc., also submitted a citizen petition dated November 9, 2010 (Docket No. FDA-2010-P-0577), under 21 CFR 10.30, requesting that the Agency determine whether NUVIGIL (armodafinil) Tablets, 100 mg and 200 mg, were withdrawn from sale for reasons of safety or effectiveness.

After considering the citizen petitions and reviewing Agency records, FDA has determined under 314.161 that NUVIGIL (armodafinil) Tablets, 100 mg and 200 mg, were not withdrawn for reasons of safety or effectiveness. The petitioners have identified no data or other information suggesting that NUVIGIL (armodafinil) Tablets, 100 mg and 200 mg, were withdrawn for reasons of safety or effectiveness. We have carefully reviewed our files for records concerning the withdrawal of NUVIGIL (armodafinil) Tablets, 100 mg and 200 mg, from sale. We have also independently evaluated relevant literature and data for possible postmarketing adverse events. We have found no information that would indicate that this product was withdrawn from sale for reasons of safety or effectiveness.

Accordingly, the Agency will continue to list NUVIGIL (armodafinil) Tablets, 100 mg and 200 mg, in the “Discontinued Drug Product List” section of the Orange Book. The “Discontinued Drug Product List” delineates, among other items, drug products that have been discontinued from marketing for reasons other than safety or effectiveness. ANDAs that refer to NUVIGIL (armodafinil) Tablets, 100 mg and 200 mg, may be approved by the Agency as long as they meet all other legal and regulatory requirements for the approval of ANDAs. If FDA determines that labeling for this drug product should be revised to meet current standards, the Agency will advise ANDA applicants to submit such labeling.

Dated: July 18 2011.
David Dorsey,
Acting Deputy Commissioner for Policy, Planning and Budget.

[FR Doc. 2011-18473 Filed 7-21-11; 8:45 am]

BILLING CODE 4160-01-P